DEPARTMENT OF COMMERCE

International Trade Administration

United States Travel and Tourism Advisory Board Charter Renewal

AGENCY: United States Travel and Tourism Advisory Board, International Trade Administration, Commerce.

ACTION: Notice.

SUMMARY: The Chief Financial Officer and Assistant Secretary of Commerce for Administration, with the concurrence of the General Services Administration, renewed the Charter for the United States Travel and Tourism Advisory Board on August 17, 2017.

DATES: The Charter for the United States Travel and Tourism Advisory Board was renewed on August 17, 2017.

FOR FURTHER INFORMATION CONTACT: Brian Beall, the United States Travel and Tourism Advisory Board, Room 10003, 1401 Constitution Avenue NW., Washington, DC, 20230, telephone: 202-482-5634, email: Brian.Beall@trade.gov.

SUPPLEMENTARY INFORMATION: The Chief Financial Officer and Assistant Secretary of Commerce for Administration, with the concurrence of the General Services Administration, renewed the United States Travel and Tourism Advisory Board on August 17, 2017. This Notice is published in accordance with the Federal Advisory Committee Act (FACA) (Title 5, United States Code, Appendix 2, section 9). It has been determined that the Committee is necessary and in the public interest. The Committee was established pursuant to Commerce's authority under 15 U.S.C. 1512, established under the Federal Advisory Committee Act (FACA), as amended, 5 U.S.C., App. and with the concurrence of the General Services Administration. The Committee provides advice to the Secretary on government policies and programs that affect the U.S. travel and tourism industry.

Dated: August 28, 2017.
Brian Beall,
Designated Federal Officer, United States Travel and Tourism Advisory Board.

[FR Doc. 2017-18820 Filed 9-5-17; 8:45 am]

BILLING CODE 3510-DR-P